FEDERAL COMMUNICATIONS COMMISSION

Notice of Public Information Collection(s) Being Submitted to OMB for Review and Approval

July 20, 2005.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 2, 2005. If you anticipate that you will be submitting comments, but find it difficult to do so within the period of time allowed by this notice, you should advise the contact listed below as soon as possible.

ADDRESSES: You may submit your comments by e-mail or U.S. mail. To submit your comments by e-mail send them to PRA@fcc.gov. To submit your comments by U.S. mail send them to Cathy Williams, Federal Communications Commission, Room 1-C823, 445 12th Street, SW., Washington, DC 20554 and Kristy L. LaLonde, Office of Management and Budget (OMB), Room 10236 NEOB, Washington, DC 20503, (202) 395-3087 or via the Internet at Kristy_L._LaLonde@omb.eop.gov.

FOR FURTHER INFORMATION CONTACT: For additional information about the information collection(s) send an e-mail to PRA@fcc.gov or contact Cathy Williams at (202) 418-2918. If you would like to obtain a copy of this revised information collection, you may do so by visiting the FCC PRA Web page at: http://www.fcc.gov/omd/pra.

SUPPLEMENTARY INFORMATION: OMB Control Number: 3060-0849.

Title: Commercial Availability of Navigation Devices.

Form Number: Not applicable.

Type of Review: Revision of a currently approved collection.

Respondents: Business or other for-profit entities.

Number of Respondents: 215.

Estimated Time per Response: 10 minutes to 50 hours.

Frequency of Response: On occasion reporting requirement; Every 60 days and every 90 days reporting requirements; One time reporting requirement; Third party disclosure requirement.

Total Annual Burden: 4,943 hours.

Total Annual Cost: $33,450.

Privacy Impact Assessment: No impact(s).

Needs and Uses: Section 629 of the Communications Act of 1934, as amended, directs the Commission to assure the commercial availability of navigation devices from sources other than incumbent multichannel video programming distributors. The Commission released an Order, In the Matter of the Implementation of Section 304 of the Telecommunications Act of 1996—Commercial Availability of Navigation Devises, CS Docket No. 97-80, FCC 05-76 on March 17, 2005. The reporting requirements in the Order are imposed to ensure that progress continues to be made toward the statutory goals of Section 629. Beginning August 1, 2005 or upon Office of Management and Budget (OMB) approval, and every 60 days thereafter, the National Cable and Telecommunications Association and the Consumer Electronics Association must file joint status reports and hold joint status meetings with the Commission regarding progress in bidirectional negotiations and a software-based conditional access agreement. Beginning August 1, 2005 or upon OMB approval, and every 90 days thereafter, the six largest cable operators (Comcast, Time Warner, Cox, Charter, Adelphia and Cablevision) must file status reports on CableCARD deployment and support. The reporting requirement that the cable industry file a report on the feasibility of deploying downloadable security is effective on December 1, 2005 or upon OMB approval.

Federal Communications Commission.
Marlene H. Dortch,
Secretary.

[FR Doc. 05-15134 Filed 8-2-05; 8:45 am]

BILLING CODE 6712-01-P